DEPARTMENT OF THE INTERIOR

Bureau of Ocean Energy Management

[MMAA104000]

Outer Continental Shelf Official Protraction Diagrams and Supplemental Official Outer Continental Shelf Block Diagrams

AGENCY: Bureau of Ocean Energy Management (BOEM), Interior.

ACTION: Availability of revised North American Datum of 1927 (NAD 27) Outer Continental Shelf Official Protraction Diagrams and Two Lease Maps Diagrams.

SUMMARY: Notice is hereby given that effective with this publication, certain NAD 27-based Outer Continental Shelf (OCS) Official Protraction Diagrams (OPDs) and two Lease Maps depicting geographic areas located in the Gulf of Mexico with revision dates as indicated are now available. BOEM, in accordance with its authority and responsibility under the OCS Lands Act, is updating the maps used for the description of renewable energy, mineral, and oil and gas lease sales in the geographic areas they represent.

BOEM produces and maintains the official marine cadastre for the OCS areas of the United States. The marine cadastre is a comprehensive spatial data infrastructure whereby rights, restrictions and responsibilities in the marine environment can be assessed, administered and managed. The marine cadastre includes the block grids and official boundaries, which provide the base for nearly all of the BOEM offshore maps and leasing processes. It also gives BOEM the means to define, describe, analyze, and account for every acre/hectare of federal offshore submerged lands.

Pursuant to the “Agreement between the United Mexican States and the United States of America Concerning Transboundary Hydrocarbon Reservoirs in the Gulf of Mexico,” which went into effect on July 18, 2014, certain activities carried out within three (3) statute miles of the U.S.-Mexico maritime boundary in the Gulf of Mexico trigger obligations for the United States related to such activities within its jurisdiction. The following OPDs and Lease Maps (dated October 1, 2014) have been revised to reflect this “Transboundary Three Statute Mile Line.”

Outer Continental Shelf Official Protraction Diagrams in the Gulf of Mexico

Description/Date

NG14-06 (Port Isabel)—10/01/2014

NG15-04 (Alaminos Canyon)—10/01/2014

NG15-05 (Keathley Canyon)—10/01/2014

NG15-08 (Sigsbee Escarpment)—10/01/2014

NG15-09 (Amery Terrace)—10/01/2014

NG16-07 (Lund South)—10/01/2014

TX1 (South Padre Island Area)—10/01/2014

TX1A (South Padre Island Area, East Addition)—10/01/2014

SUPPLEMENTARY INFORMATION: Copies of the revised OPDs and two lease maps are available for download in .pdf format from http://www.boem.gov/Official-Protraction-Diagrams/.

FOR FURTHER INFORMATION CONTACT: Douglas Vandegraft, Chief, Mapping and Boundary Branch at (703) 787-1312 or via email at Doug.Vandegraft@boem.gov.

Dated: January 12, 2015.
Abigail Ross Hopper,
Director, Bureau of Ocean Energy Management.

[FR Doc. 2015-00930 Filed 1-21-15; 8:45 am]

BILLING CODE 4310-MR-P